ENVIRONMENTAL PROTECTION AGENCY

[EPA-HQ-OAR-2011-0901; FRL-952-70-OAR]

Proposed Information Collection Request; Comment Request; Prevention of Significant Deterioration and Nonattainment New Source Review (Renewal)

AGENCY: Environmental Protection Agency (EPA).

ACTION: Notice.

SUMMARY: The Environmental Protection Agency (EPA) is planning to submit an information collection request (ICR), “Prevention of Significant Deterioration and Nonattainment New Source Review” (EPA ICR No. 1230.32, OMB Control No. 2060-0003) to the Office of Management and Budget (OMB) for review and approval in accordance with the Paperwork Reduction Act (PRA) (44 U.S.C. 3501 et seq.). Before doing so, the EPA is soliciting public comments on specific aspects of the proposed information collection as described below. This is a proposed extension of the ICR, which is currently approved through April 30, 2017. An agency may not conduct or sponsor and a person is not required to respond to a collection of information unless it displays a currently valid OMB control number.

DATES: Comments must be submitted on or before November 21, 2016.

ADDRESSES: Submit your comments, identified by Docket ID No. EPA-HQ-OAR-2011-0901, to the Federal eRulemaking Portal: https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www2.epa.gov/dockets/commenting-epa-dockets.

FOR FURTHER INFORMATION CONTACT: Ben Garwood, Air Quality Policy Division, Office of Air Quality Planning and Standards, C504-03, U.S. Environmental Protection Agency, Research Triangle Park, NC 27709; telephone number: (919) 541-1358; fax number: (919) 541-5509; email address: garwood.ben@epa.gov.

SUPPLEMENTARY INFORMATION: Supporting document(s) which explain in detail the information that the EPA will be collecting are available in the public docket for this ICR. The docket can be viewed online at https://www.regulations.gov or in person at the EPA Docket Center, WJC West, Room 3334, 1301 Constitution Ave. NW., Washington, DC. The telephone number for the Docket Center is (202) 566-1744. For additional information about the EPA's public docket, visit https://www.epa.gov/dockets.

Pursuant to section 3506(c)(2)(A) of the PRA, the EPA is soliciting comments and information to enable it to: (i) Evaluate whether the proposed collection of information is necessary for the proper performance of the functions of the agency, including whether the information will have practical utility; (ii) evaluate the accuracy of the agency's estimate of the burden of the proposed collection of information, including the validity of the methodology and assumptions used; (iii) enhance the quality, utility and clarity of the information to be collected; and (iv) minimize the burden of the collection of information on those who are to respond, including through the use of appropriate automated electronic, mechanical or other technological collection techniques or other forms of information technology, e.g., allowing electronic submission of responses. The EPA will consider the comments received and amend the ICR as appropriate. The final ICR package will then be submitted to OMB for review and approval. At that time, the EPA will issue another Federal Register notice to announce the submission of the ICR to OMB and the opportunity to submit additional comments to OMB.

Abstract: This ICR is for activities related to the implementation of the EPA's New Source Review (NSR) program, for the time period between May 1, 2017, and April 30, 2020, and renews the previous ICR. Title I, part C of the Clean Air Act (CAA or the Act)—“Prevention of Significant Deterioration,” and part D—“Plan Requirements for Nonattainment Areas,” require all states to adopt preconstruction review programs for new or modified stationary sources of air pollution. In addition, the provisions of section 110 of the Act include a requirement for states to have a preconstruction review program to manage the emissions from the construction and modification of any stationary source of air pollution to assure that the National Ambient Air Quality Standards are achieved and maintained. Tribes may choose to develop implementation plans to address these requirements.

Implementing regulations for these three programs are promulgated at 40 CFR 49.101 through 49.105; 40 CFR 49.151 through 49.173; 40 CFR 51.160 through 51.166; 40 CFR part 51, Appendix S; and 40 CFR 52.21 and 52.24. In order to receive a construction permit for a major new source or major modification, the applicant must conduct the necessary research, perform the appropriate analyses and prepare the permit application with documentation to demonstrate that their project meets all applicable statutory and regulatory NSR requirements. Specific activities and requirements are listed and described in the Supporting Statement for the ICR.

State, local, tribal or federal reviewing authorities review permit applications and provide for public review of proposed projects and issue permits based on their consideration of all technical factors and public input. The EPA, more broadly, reviews a fraction of the total applications and audits the state and local programs for their effectiveness. Consequently, information prepared and submitted by sources is essential for sources to receive permits, and for federal, state, and local environmental agencies to adequately review the permit applications and thereby properly administer and manage the NSR programs.

Information that is collected is handled according to EPA's policies set forth in title 40, chapter 1, part 2, subpart B—Confidentiality of Business Information (see 40 CFR part 2). See also section 114(c) of the Act.

Form numbers: 5900-246, 5900-247, 5900-248, 5900-340, 5900-341, 5900-342, 5900-343, 5900-344, 5900-390, and 5900-391.

Respondents/affected entities: Entities potentially affected by this action are those which must apply for and obtain a preconstruction permit under part C or D or section 110(a)(2)(C) of title I of the Act. In addition, state, local and tribal reviewing authorities that must review permit applications and issue permits are affected entities.

Title: Prevention of Significant Deterioration and Nonattainment New Source Review (Renewal).

Respondent's obligation to respond: Mandatory [see 40 CFR part 49, subpart C; 40 CFR part 51, subpart I; 40 CFR part 52, subpart A; 40 CFR part 124, subparts A and C].

Estimated number of respondents: 73,762 (total); 73,639 industrial facilities and 123 state, local and tribal reviewing authorities.

Frequency of response: On occasion, as necessary.

Total estimated burden: 5,516,675 hours (per year). Burden is defined at 5 CFR 1320.03(b).

Total estimated cost: $428,760,519 (per year). This includes $3,466,314 annually in outsourced start-up costs for preconstruction monitoring.

Changes in estimates: There is a decrease of 2,417,665 hours in the total estimated respondent burden compared with the ICR currently approved by OMB. This decrease has two primary causes: (1) A significant decrease in the estimated number of industrial facilities subject to CAA title I, part C permitting as a result of the U.S. Supreme Court ruling in Utility Air Regulatory Group (UARG) v. EPA (134 S.Ct. 2427 (2014)); and (2) a significant decrease in the estimated number of permits and registrations on tribal lands based on the progress in, and experience with, implementing the tribal NSR program.

Dated: September 9, 2016.
Anna Marie Wood,
Director, Air Quality Policy Division, OAQPS.

[FR Doc. 2016-22770 Filed 9-20-16; 8:45 am]

BILLING CODE 6560-50-P